DEPARTMENT OF DEFENSE

Department of Air Force

[Docket ID USAF-2009-0056]

Privacy Act of 1974; System of Records

AGENCY: Department of Air Force, DoD.

ACTION: Notice to Amend a System of Records.

SUMMARY: The Department of Air Force proposes to amend a system of records to its inventory of record systems subject to the Privacy Act of 1974 (5 U.S.C. 552a), as amended.

DATES: The changes will be effective on October 22, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6172.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: September 11, 2009.
Patricia L. Toppings,
OSD Federal Register Liaison Officer, Department of Defense.

F033 AF D

SYSTEM NAME:

Automated Orders Data System (May 9, 2009, 68 FR 24944).

CHANGES:

* * * * *

CATEGORIES OF INDIVIDUALS COVERED BY THE SYSTEM:

Delete entry and replace with “All Air Force civilian employees and military members who perform temporary duty travel, including all Air Force reserve and Air National Guard personnel, and other individuals that travel on Air Force and/or Air National Guard travel orders.”

* * * * *

AUTHORITY FOR MAINTENANCE OF THE SYSTEM:

Delete entry and replace with “10 U.S.C. 8013, Secretary of the Air Force; Joint Federal Travel Regulation; Air Instruction 33-328, Administrative Orders; Air Force Instruction 33-332, Privacy Act Program; Air Force Instructions 65-103, Temporary Duty Orders; Air National Guard Instruction 33-101, Air National Guard Special Orders; Air National Guard Instruction 65-101, Air National Guard Workday Accounting and Reporting Procedures; and E.O. 9397 (SSN), as amended.”

PURPOSE(S):

Delete entry and replace with “To execute and maintain an official travel record authorization and payment file system. Provides management information for control of travel expenditures and work days, and supports documentation requirements for official travel.”

* * * * *

SAFEGUARDS:

Delete entry and replace with “Records are accessed by person(s) responsible for servicing the record system in performance of their official duties and are properly screened for need-to-know. Usernames and passwords are established for computer system entrance.”

* * * * *

SYSTEM MANAGER(S) AND ADDRESS:

Delete entry and replace with “Records Custodians at the installation, base, unit, organization, office or function to which the individual is assigned and/or affiliated with, attached, tenanted on, or on temporary duty. Official mailing addresses are published as an appendix to the Air Force's compilation of systems of records notices.”

NOTIFICATION PROCEDURES:

Delete entry and replace with “Individuals seeking to determine whether this system of records contains information on themselves should address inquiries to the Records Custodian and/or Order Specialist at the installation, base, unit, organization, office or function to which the individual is assigned, attached, tenanted on, or on temporary duty. Official mailing addresses are published as an appendix to the Air Force's compilation of systems of records notices.

Individual should provide full name, Social Security Number (SSN), and office or organization.”

RECORD ACCESS PROCEDURES:

Delete entry and replace with “Individuals seeking access to records about themselves contained in this system should address requests to the Records Custodian and/or Orders Specialist at the installation, base, unit, organization, office or function to which the individual is assigned, attached, tenanted on, or on temporary duty. Official mailing addresses are published as an appendix to the Air Force's compilation of systems of records notices.

Individual should provide full name, Social Security Number (SSN), and office or organization.”

* * * * *

F033 AF D

SYSTEM NAME:

Automated Orders Data System.

SYSTEM LOCATION:

Any location where temporary orders are being published at all levels down to squadrons. Official mailing addresses are published as an appendix to the Air Force compilation of systems of records notices.

CATEGORIES OF INDIVIDUALS COVERED BY THE SYSTEM:

All Air Force civilian employees and military members who perform temporary duty travel, including all Air Force reserve and Air National Guard personnel, and other individuals that travel on Air Force and/or Air National Guard travel orders.

CATEGORIES OF RECORDS IN THE SYSTEM:

Records relating to official travel of individuals, including travel orders, per diem vouchers, transportation requests, travel itinerary, and supporting documentation. Records contain individual's name, Social Security Number (SSN), rank/grade, office name, telephone, and related information.

AUTHORITY FOR MAINTENANCE OF THE SYSTEM:

10 U.S.C. 8013, Secretary of the Air Force; Joint Federal Travel Regulation; Air Instruction 33-328, Administrative Orders; Air Force Instruction 33-332, Privacy Act Program; Air Force Instructions 65-103, Temporary Duty Orders; Air National Guard Instruction 33-101, Air National Guard Special Orders; Air National Guard Instruction 65-101, Air National Guard Workday Accounting and Reporting Procedures; and E.O. 9397 (SSN), as amended.

PURPOSE(S):

To execute and maintain an official travel record authorization and payment file system. Provides management information for control of travel expenditures and work days, and supports documentation requirements for official travel.

ROUTINE USES OF RECORDS MAINTAINED IN THE SYSTEM, INCLUDING CATEGORIES OF USERS AND THE PURPOSES OF SUCH USES:

In addition to those disclosures generally permitted under 5 U.S.C. 5522a(b) of the Privacy Act of 1974, these records contained therein may specifically be disclosed outside the DoD as a routine use pursuant to 5 U.S.C. 552a(b)(3) as follows:

The DoD “Blanket Routine Uses” published at the beginning of the Air Force's compilation of systems of records notices apply to this system.

POLICIES AND PRACTICES FOR STORING, RETRIEVING, ACCESSING, RETAINING, AND DISPOSING OF RECORDS IN THE SYSTEM:

STORAGE:

Electronic storage media.

RETRIEVABILITY:

Retrieved by name and Social Security Number (SSN).

SAFEGUARDS:

Records are accessed by person(s) responsible for servicing the record system in performance of their official duties and are properly screened for need-to-know. Usernames and passwords are established for computer system entrance.

RETENTION AND DISPOSAL:

Identification data is maintained until the individual is reassigned. Orders are maintained for 1 to 56 years after the year in which they are published.

SYSTEM MANAGER(S) AND ADDRESS:

Records Custodians at the installation, base, unit, organization, office or function to which the individual is assigned and/or affiliated with, attached, tenanted on, or on temporary duty. Official mailing addresses are published as an appendix to the Air Force's compilation of systems of records notices.

NOTIFICATION PROCEDURES:

Individuals seeking to determine whether this system of records contains information on themselves should address inquiries to the Records Custodian and/or Order Specialist at the installation, base, unit, organization, office or function to which the individual is assigned, attached, tenanted on, or on temporary duty. Official mailing addresses are published as an appendix to the Air Force's compilation of systems of records notices.

Individual should provide full name, Social Security Number (SSN), and office or organization.

RECORD ACCESS PROCEDURES:

Individuals seeking access to records about themselves contained in this system should address requests to the Records Custodian and/or Orders Specialist at the installation, base, unit, organization, office or function to which the individual is assigned, attached, tenanted on, or on temporary duty. Official mailing addresses are published as an appendix to the Air Force's compilation of systems of records notices.

Individual should provide full name, Social Security Number (SSN), and office or organization.

CONTESTING RECORD PROCEDURES:

The Air Forces rules for accessing records, and for contesting contents and appealing initial agency determinations are published in Air Force Instruction 37-132; 32 CFR parts 806b; or may be obtained from the system manager.

RECORD SOURCE CATEGORIES:

Information is obtained from personnel records, automated system interfaces, individuals, and orders requests.

EXEMPTIONS CLAIMED FOR THE SYSTEM:

None.

[FR Doc. E9-22793 Filed 9-21-09; 8:45 am]

BILLING CODE 5001-06-P